DEPARTMENT OF COMMERCE

National Oceanic and Atmospheric Administration

[I.D. 031902C]

North Pacific Fishery Management Council; Notice of Public Meetings

AGENCY: National Marine Fisheries Service (NMFS), National Oceanic and Atmospheric Administration (NOAA), Commerce.

ACTION: Meetings of the North Pacific Fishery Management Council and its advisory committees.

SUMMARY: The North Pacific Fishery Management Council (Council) and its advisory committees will hold public meetings April 8-17, 2002, in Anchorage, Alaska. All meetings will be held at the Anchorage Hilton Hotel.

DATES: The Council's Advisory Panel will begin at 8 a.m., Monday, April 8, and continue through Saturday, April 13, 2002. The Scientific and Statistical Committee will begin at 8 a.m. on Monday, April 8, and continue through Wednesday, April 10, 2002.

The Council will begin its plenary session at 8 a.m. on Wednesday, April 10, continuing through noon Wednesday, April 17. All meetings are open to the public except executive sessions. See SUPPLEMENTARY INFORMATION for a schedule of other meetings and the agenda.

ADDRESSES: Hilton Hotel, 500 W. 3rd Avenue, Anchorage, Alaska.

Council address: North Pacific Fishery Management Council, 605 W. 4th Ave., Suite 306, Anchorage, AK 99501-2252.

FOR FURTHER INFORMATION CONTACT: Council staff, Phone: 907-271-2809.

SUPPLEMENTARY INFORMATION:

Other Committee/Workgroup Meetings Scheduled:

The Individual Fishery Quota (IFQ) Implementation and Cost Recovery Committee will meet Sunday, April 7, from 6:30pm to 9:30pm at the Anchorage Hilton Hotel to review regulatory amendments to the IFQ program and develop recommendations for the Council.

The Gulf of Alaska Workgroup will meet Tuesday, April 9, from 1 p.m.-5 p.m. at the Anchorage Hilton Hotel to continue developing recommendations for rationalization of the Gulf of Alaska groundfish fisheries.

Council Plenary Session: The agenda for the Council's plenary session will include the following issues. The Council may take appropriate action on any of the issues identified.

1. Reports:

(a) Executive Director's Report.

(b) State Fisheries Report by Alaska Dept. of Fish and Game.

(c) National Marine Fisheries Service (NMFS) Management Report.

(d) U.S. Coast Guard Enforcement and Surveillance report.

(e) Report on sea otters from the U.S. Fish &Wildlife Service.

2. Observer Program: final action on regulatory amendments and program extension.

3. Halibut/Sablefish IFQ Program: Final action on implementation regulatory amendments and community purchase of quota share amendment.

4. Halibut Subsistence:

(a) Receive report on the Proposed Rule for October 2000 Council action on halibut subsistence.

(b) Receive report from Halibut Subsistence Committee on proxy issues.

(c) Final action on amendments to October 2000 Council action on halibut subsistence.

5. Community Development Quota Policy Amendment: Identify preferred alternative.

6. Crab Management:

(a) Initial review of analysis for rationalization of Bering Sea/Aleutian Island crab fisheries.

(b) Finalize suite of alternatives for the environmental impact statement for the Bering Sea/Aleutian Islands King and Tanner Crab Fishery Management Plan.

7. Draft Programmatic Groundfish Supplemental Environmental Impact Statement:

(a) Review report from the Ecosystem Committee (tentative).

(b) Clarify purpose and need statement.

(c) Review alternatives for revised analysis

8. American Fisheries Act:

(a) Initial review of processor sideboards, improved retention/utilization adjustments and bycatch reduction measures.

(b) Initial review of additional Pacific cod sideboard measures.

(c) Initial review of single geographic location change, including clarification of Inshore-offshore and Catcher Vessel Operational Area regulations.

(d) Review industry proposal for pollock bycatch measures and provide direction.

9. Essential Fish Habitat (EFH):

(a) Review progress and EFH Committee report; provide direction.

(b) Review recommendations from the joint Council/Alaska Board of Fisheries Protocol Committee.

10. Gulf of Alaska Groundfish Rationalization: Review progress from working group; provide direction.

11. Steller Sea Lions: Initial review of trailing amendments.

12. Review staff tasking and provide direction.

13. Discuss annual management cycle and Council Statement of Operating Policy and Procedures.

14. Discuss and identify research priorities.

Although other issues not contained in this agenda may come before this Council for discussion, in accordance with the Magnuson-Stevens Fishery Conservation and Management Act, those issues may not be the subject of formal Council action during the meeting. Council action will be restricted to those issues specifically identified in the agenda listed in this notice.

Scientific and Statistical Committee (SSC): The SSC agenda will include the following issues:

1. Election of Officers.

2. Crab Management (Item #6 on the Council agenda).

3. American Fisheries Act issues (Item #8 on the Council agenda).

4. Essential Fish Habitat (Item #9 on the Council agenda).

5. Draft Programmatic Groundfish SEIS (Item #7 on the Council agenda).

6. Steller Sea Lion trailing amendment (Item #11 on the Council agenda).

7. Research Priorities (Item #13 on the Council agenda).

Advisory Panel: The Advisory Panel will elect officer for the coming year and address the same agenda issues as the Council, with the exception of the Reports under Item 1 of the Council agenda.

Special Accommodations

These meetings are physically accessible to people with disabilities.

Requests for sign language interpretation or other auxiliary aids should be directed to Helen Allen at 907-271-2809 at least 7 working days prior to the meeting date.

Dated: March 19, 2002.
Richard W. Surdi,
Acting Director, Office of Sustainable Fisheries, National Marine Fisheries Service.

[FR Doc. 02-6984 Filed 3-21-02; 8:45 am]

BILLING CODE 3510-22-S